NUCLEAR REGULATORY COMMISSION

[Docket Nos. 50-275 and 50-323; NRC-2016-0080]

Diablo Canyon Power Plant, Units 1 and 2

AGENCY: Nuclear Regulatory Commission.

ACTION: Request for action; receipt.

SUMMARY: The U.S. Nuclear Regulatory Commission (NRC) is giving notice that Friends of the Earth (FOE or petitioner) filed a Petition to Intervene and Request for Hearing concerning Diablo Canyon Power Plant (DCPP) on August 26, 2014, asserting, in part, its concerns about DCPP's operational safety and ability to safely shut down in the event of a nearby earthquake. The Commission referred those concerns to the NRC's Executive Director for Operations (EDO) for consideration. The petitioner's requests are included in the SUPPLEMENTARY INFORMATION section of this document.

ADDRESSES: Please refer to Docket ID NRC-2016-0080 when contacting the NRC about the availability of information regarding this document. You may obtain publicly-available information related to this document using any of the following methods:

• Federal Rulemaking Web site: Go to http://www.regulations.gov and search for Docket ID NRC-2016-0080. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Lisa M. Regner, Office of Nuclear Reactor Regulation, U.S. Nuclear Regulatory Commission, Washington DC 20555-0001; telephone: 301-415-1906, email: Lisa.Regner@nrc.gov.

SUPPLEMENTARY INFORMATION:

On August 26, 2014, FOE filed a Petition to Intervene and Request for Hearing (Petition) concerning DCPP (ADAMS Package Accession No. ML15226A316). Within this Petition, FOE asserted concerns about DCPP's operational safety and ability to safely shut down. The Commission referred those concerns to the NRC's EDO ¹ for consideration under the regulations in section 2.206 of title 10 of the Code of Federal Regulations (10 CFR), “Requests for Action Under this Subpart.” The EDO then referred these concerns to the NRC's Office of Nuclear Reactor Regulation for consideration under 10 CFR 2.206.

¹ Memorandum and Order CLI-15-14, dated May 21, 2015 (ADAMS Accession No. ML15141A084).

On two occasions, the NRC offered the petitioner opportunities to address the Petition Review Board (PRB), which was established to review the concerns referred to the EDO from the Commission, as discussed above. In response, on September 30, 2015, and February 8, 2016, FOE's attorney provided written submissions on behalf of FOE to the PRB in lieu of FOE addressing the PRB in person or via telephone (ADAMS Package Accession No. ML15226A316).

Based on the information described above, the NRC has decided to accept the petitioner's concerns referred to the EDO by the Commission for consideration under the 10 CFR 2.206 process because these concerns meet the criteria provided in Management Directive 8.11, “Review Process for 10 CFR 2.206 Petitions.”

Dated at Rockville, Maryland, this 12th day of April 2016.
For the Nuclear Regulatory Commission.
William M. Dean,
Director, Office of Nuclear Reactor Regulation.

[FR Doc. 2016-09145 Filed 4-19-16; 8:45 am]

BILLING CODE 7590-01-P